DEPARTMENT OF TRANSPORTATION

Federal Aviation Administration

Suspension of Preparation of Environmental Impact Statement for the Proposed Replacement General Aviation Airport, Mesquite, Clark County, NV

AGENCY: Federal Aviation Administration, DOT.

ACTION: Notice of suspension of preparation of Environmental Impact Statement.

SUMMARY: The Federal Aviation Administration (FAA) as the Lead Agency for the proposed project is issuing this notice to advise the public the FAA has suspended preparation of an Environmental Impact Statement (EIS) for a proposed Replacement General Aviation (GA) Airport in Mesquite, Clark County, Nevada. The FAA received a letter dated September 27, 2011, from the City of Mesquite, Nevada asking the FAA to suspend any further work on the EIS. The reasons for this action include the local economic conditions in Mesquite and other local fiscal and budgetary constraints.

FOR FURTHER INFORMATION CONTACT: David B. Kessler, AICP, Regional Environmental Protection Specialist, AWP-610.1, Airports Division, Federal Aviation Administration, Western-Pacific Region, P.O. Box 92007, Los Angeles, California 90009-2007, Telephone: 310/725-3615.

SUPPLEMENTARY INFORMATION: On December 8, 2004, the Federal Aviation Administration (FAA) issued a Notice of Intent in the Federal Register (69 FR 71097) to prepare an Environmental Impact Statement (EIS) for the proposed construction and operation of a proposed Replacement General Aviation (GA) Airport, for the City of Mesquite in eastern Clark County, Nevada. The City of Mesquite proposed to build the replacement airport south of Interstate Highway 15 between Exit 108 and 109 on the Mormon Mesa, about 15 miles west of the existing Mesquite Municipal Airport. The City proposed to close the existing Mesquite Municipal Airport and change the airport land use to residential land use, including construction of a new arterial roadway through the existing airport property. To maintain access to the National Air Transportation System, the City also proposed to design, fund, and build a replacement GA airport at Mormon Mesa that would provide GA facilities and services to the flying public, support regional economic development at no cost to the FAA. The City proposed to build the replacement GA airport to meet FAA Airport Reference Code (ARC) B-II standards with a new runway 7,500 feet long by 100 feet wide.

On May 16, 2008, the Notice of Availability of FAA's Draft EIS was published in the Federal Register (73 FR 28461). The FAA received 34 comment letters on the Draft EIS from federal, state and local agencies, as well as the general public. In March 2009, as FAA was preparing responses to comments received on the 2008 Draft EIS, FAA determined there were significant new circumstances or information relevant to environmental concerns and bearing on the Proposed Project or its impacts. Consistent with Title 40 CFR 1501.9, FAA decided to prepare a Revised Draft Environmental Impact Statement (RDEIS).

The FAA received a letter from the City of Mesquite, dated September 27, 2011, asking the FAA to suspend any additional work on the EIS for the proposed Replacement GA Airport EIS. The City of Mesquite explained the postponement was based on local economic conditions and other local fiscal and budgetary constraints. The FAA does not know how long the suspension of the EIS will last.

Pursuant to Title 14, Code of Federal Regulations, Part 77, Objects Affecting Navigable Airspace, § 77.29 Evaluating Aeronautical Effect, when a proponent files a Notice of Proposed Construction or Alteration (FAA Form 7460-1) for a proposal in the vicinity of the proposed Replacement General Aviation Airport for Mesquite, the FAA will conduct an aeronautical study to determine the impact of a proposed structure, an existing structure that has not yet been studied by the FAA, or an alteration of an existing structure on aeronautical operations, procedures, and the safety of flight including but not limited to the proposal's impact on existing and planned public use airports.

Issued in Hawthorne, California, on October 28, 2011.
Mark A. McClardy,
Manager, Airports Division, Western—Pacific Region, AWP-600.

[FR Doc. 2011-29269 Filed 11-10-11; 8:45 am]

BILLING CODE 4910-13-P